DEPARTMENT OF THE INTERIOR

Bureau of Land Management

[LLUT-92000-11-L51100000-GA0000-LVEMJ09-CJ220, UTU85539]

Notice of Competitive Coal Lease Sale, Utah

AGENCY: Bureau of Land Management, Interior.

ACTION: Notice of competitive coal lease sale.

SUMMARY: Notice is hereby given that that certain coal resources in the Dry Canyon Coal Tract described below in Carbon County, Utah, will be offered for competitive lease by sealed bid in accordance with the provisions of the Mineral Leasing Act of 1920, as amended.

DATES: The lease sale will be held at 1 p.m., November 15, 2011. The sealed bid must be sent by certified mail, return receipt requested, or be hand delivered to the address indicated below, and must be received on or before 10 a.m. (Mountain time) on November 15, 2011.

ADDRESSES: The lease sale will be held in the Fifth Floor Monument Conference Room, of the Bureau of Land Management (BLM), Utah State Office, 440 West 200 South, Salt Lake City, Utah 84101. Sealed bids can be hand delivered to the Cashier, BLM Utah State Office, 440 West 200 South, Suite 500, Salt Lake City, Utah 84101, during normal business hours (7:45 a.m. to 4:30 p.m.), Monday through Friday, except holidays. Sealed bids may also be sent by certified mail, return receipt requested to the Cashier, BLM Utah State Office, P.O. Box 45155, Salt Lake City, Utah 84145-0155.

FOR FURTHER INFORMATION CONTACT: Jeff McKenzie, 440 West 200 South, Suite 500 Salt Lake City, Utah 84101-1345, telephone 801-539-4038, or e-mail jmkenzi@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This coal lease sale is being held in response to a lease by application (LBA) submitted by UtahAmerican Energy, Inc. The coal resources to be offered consist of all recoverable reserves in the following described lands located approximately 3 miles northeast of Helper, Utah.

Salt Lake Meridian

T. 12 S., R. 10 E.

Sec. 25, N½;

Sec. 26, N½;

Sec. 27, N½;

Sec. 28, NE¼, E½NW¼, SW¼NW¼, and S½;

Sec. 29, E½SE¼;

Sec. 33, all.

T. 13 S., R. 10 E.

Sec. 3, all;

Sec. 4, lots 1 through 4 inclusive, S½N½, and N½S½;

Sec. 8, lot 4;

Sec. 10, N½, and W½SW¼;

Sec. 11, N½, and SE¼.

Containing 4,325.01 acres, more or less, in Carbon County, Utah.

UtahAmerican Energy, Inc., submitted the application for the coal lease. The company plans to mine the coal as an extension from their existing Aberdeen Mine, if the lease is obtained. The Dry Canyon Coal Tract has three minable coal beds; the Aberdeen, the Kennilworth and the D seam bed. The minable portions of the coal beds in this area average 10 feet in thickness for the Aberdeen seam, 8 feet in thickness for the Kennilworth seam, and 6 feet in thickness for the D seam. The tract contains an estimated 42.2 million tons of recoverable high-volatile A/B bituminous coal. The coal quality in the coal beds on an “as received basis” is as follows: (1) Aberdeen: 13,414 Btu/lb., 2.35 percent moisture, 5.57 percent ash, 41.86 percent volatile matter, 49.83 percent fixed carbon and 0.49 percent sulfur; (2) Kenilworth: 13,287 Btu/lb., 2.06 percent moisture, 6.91 percent ash, 42.88 percent fixed carbon and 0.72 percent sulfur; (3) D: 12,470 Btu/lb., 6.00 percent moisture, 8.00 percent ash, 39.00 percent volatile matter, 47.00 percent fixed carbon and 0.50 percent sulfur.

The tract will be leased to the qualified bidder of the highest cash amount provided that the high bid meets or exceeds the BLM's estimate of the fair market value (FMV) of the tract. The minimum bid for the tract is $100 per acre or fraction thereof. No bid that is less than $100 per acre, or fraction thereof, will be considered. The minimum bid is not intended to represent the FMV. The FMV of the tract will be determined by the Authorized Officer after the sale. The lease that may be issued as a result of this offering will provide for payment of an annual rental of $3 per acre, or fraction thereof, and a royalty rate of 12.5 percent of the value of coal produced by surface methods, and 8 percent of the value of the coal produced by underground mining methods. The value of the coal will be determined in accordance with 30 CFR 1206.257.

All coal LBAs submitted to the BLM for processing on or after November 7, 2005, are subject to cost recovery on a case-by-case basis (See 43 CFR 3000.10(d)(1), 70 FR 58872, October 7, 2005)). Pursuant to the regulations at 43 CFR 3473.2(f) the applicant for the Dry Canyon Coal Tract, UtahAmerican Energy, Inc., will have paid a total case-by-case cost recovery processing fee of $41,300. The successful bidder of the Dry Canyon Coal Tract, if someone other than the applicant, must pay to the BLM the $41,300 previously paid by UtahAmerican Energy, Inc. In that circumstance, any refunds due to the applicant UtahAmerican Energy Inc., would be addressed in accordance with the provisions of 43 CFR 3473.2(f)(3)). Additionally, the successful bidder must pay all processing costs the BLM incurs after the date of this sale notice is published in the Federal Register.

The required Detailed Statement for the offered tract, including bidding instructions and sales procedures under 43 CFR 3422.3-2, and the terms and conditions of the proposed coal lease, is available from the BLM, Utah State Office, P.O. Box 45155, Salt Lake City, Utah 84101 or in the Public Room, Room 500, 440 West 200 South, Suite 500, Salt Lake City, Utah 84101. All case file documents and written comments submitted by the public on FMV or royalty rates except those portions identified as proprietary by the commentator and meeting exemptions stated in the Freedom of Information Act, are available for public inspection during normal business hours in the BLM Public Room.

Jeff Rawson,
Associate State Director.

[FR Doc. 2011-26352 Filed 10-13-11; 8:45 am]

BILLING CODE 4310-DQ-P